DEPARTMENT OF HEALTH AND HUMAN SERVICES

Indian Health Service

Research and Demonstration Projects for Indian Health

AGENCY: Indian Health Service, DHHS.

ACTION: Notice of Single Source Cooperative Agreement With the Center for Native American Health, College of Public Health, University of Arizona.

SUMMARY: The Indian Health Service (IHS) announces continuation of an award of a cooperative agreement to the Center for Native American Health (CNAH), College of Public Health, University of Arizona, for a demonstration project to build and expand on a unique collaborative partnership that currently exists among the CNAH, the IHS, and the Indian tribes located in the southwestern part of the country. This award is for a final 1-year continuation of a project previously funded for a 2-year period (September 1, 1998 through August 31, 2000). The continuation will be effective September 1, 2000, through August 31, 2001. Funding for the continuation period is $229,288 plus an annual in-kind contribution by the University of $94,696.

The award is issued under the authority of the Public Health Service Act, Section 301(a). A general program description is contained in the Catalog of Federal Domestic Assistance, number 93.933.

The specific objectives of the project are: to increase opportunities for sub-specialty medical care at reservation health care facilities; to increase the availability of telemedicine at reservation health care facilities; to enhance community health planning and prevention activities; to facilitate counseling of high school level Indian students for entry into health careers; and to demonstrate the possibilities of replication of this collaborative project at other sites.

Justification for Single Source: This project has been awarded for an additional 1-year continuation on a non-competitive single source basis. The CNAH is a unique organization within the University that is guided by an Advisory Council composed of leaders from 13 Indian tribes and tribal organizations located in the southwestern part of the country and health professionals from the Arizona Department of Health, the IHS, and the University. This final year of funding should allow this model demonstration project to become self-sustaining.

Award of Cooperative Agreement: An IHS employee who is serving as the Director of CNAH will provide substantial on-going IHS programmatic involvement in the development and direction of this demonstration project. Also, the IHS has health professionals providing project guidance as members of the Advisory Council.

Contacts: For program information, contact Ms. Jan Frederick, Acting Chief, Nutrition and Dietetics, Phoenix Area IHS, Two Renaissance Square, 40 North Central, Phoenix, Arizona 85004, telephone (602) 364-5197. For grants information, contact Ms. Martha Redhouse, Grants Management Specialist, Division of Acquisitions and Grants Management, Indian Health Service, Suite 100, 12300 Twinbrook Parkway, Rockville, Maryland 20852, telephone (301) 443-5204.

Dated: September 14, 2000.
Michel E. Lincoln,
Acting Director.

[FR Doc. 00-24338 Filed 9-21-00; 8:45 am]

BILLING CODE 4160-16-M